DEPARTMENT OF THE INTERIOR

Bureau of Land Management

[LLORV00000.L10200000.DD0000; HAG 11-0296]

Notice of Public Meeting, Southeast Oregon Resource Advisory Council

AGENCY: Bureau of Land Management, Interior.

ACTION: Notice of public meeting.

SUMMARY: Pursuant to the Federal Land Policy and Management Act and the Federal Advisory Committee Act, the U.S. Department of the Interior, Bureau of Land Management (BLM) Southeast Oregon Resource Advisory Council (RAC) will meet as indicated below.

DATES: The meetings will be held on September 7, 2011 and September 8, 2011.

ADDRESSES: The meetings will take place at the Sunridge Inn, 1 Sunridge Lane, Baker City, Oregon 97814.

FOR FURTHER INFORMATION CONTACT: Mark Wilkening, 100 Oregon Street, Vale, Oregon 97918, (541) 473-6218 or e-mail mwilkeni@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The meetings will be held at the Sunridge Inn Conference Room, 1 Sunridge Lane, Baker City, Oregon. On September 7, the meeting will be held from 8 a.m. to 5 p.m. Pacific Daylight Time (PDT). This will be a joint meeting of the Southeast Oregon and the John Day-Snake RACs. Topics may include: Oregon Department of Fish and Wildlife Sage-grouse Plan, Blue Mountains Forest Plan revisions, Wilderness Characteristics Inventories, Power/Energy Transmission options, BLM Vegetation EA step down to the Districts and other matters as may reasonably come before the RAC. On September 8, the meeting will be held from 8:30 a.m. to 4:30 p.m. PDT. Topics may include: Vale District Cultural Inventories; Federal manager reports on litigation, energy projects, and other issues affecting their districts/units; and other matters as may reasonably come before the RAC. The public is welcome to attend all portions of the meetings and may make oral comments to the RAC at 1:15 p.m. on September 7, 2011 and/or at 1 p.m. on September 8, 2011.

Those who verbally address the RAC are asked to provide a written statement of their comments or presentation. Unless otherwise approved by the RAC Chair, the public comment period will last no longer than 15 minutes, and each speaker may address the RAC for a maximum of five minutes. If reasonable accommodation is required, please contact the BLM Vale District Office at (541) 473-6218 as soon as possible. Before including your address, phone number, e-mail address, or other personal identifying information in your comment, you should be aware that your entire comment—including your personal identifying information—may be made publicly available at any time. While you can ask us in your comment to withhold your personal identifying information from public review, we cannot guarantee that we will be able to do so.

Larry Frazier,
BLM Vale Associate District Manager.

[FR Doc. 2011-19435 Filed 8-1-11; 8:45 am]

BILLING CODE 4310-33-P